DEPARTMENT OF THE TREASURY

Fiscal Service

31 CFR Part 321, 351, 352, 353, 359, and 360

United States Savings Bonds; Extension of Holding Period; Correction

AGENCY: Bureau of the Public Debt, Fiscal Service, Treasury.

ACTION: Final rule; correction.

SUMMARY: We published a final rule in the Federal Register of January 17, 2003, increasing the period of time that owners of United States Series EE and I Savings Bonds must hold their bonds before the bonds are eligible for redemption. The mandatory holding period increased from 6 months to 12 months for bonds purchased on or after February 1, 2003. Although the rule correctly references the February 1, 2003 date for bonds affected by the increased holding period, the rule stated that bonds issued December 1, 2002, or earlier, are unaffected by the change and continue to retain the 6 months holding period. The rule should have stated that bonds issued January 1, 2003, or earlier, will continue to retain the 6 months holding period. This document corrects that misstatement.

EFFECTIVE DATE: Effective on February 1, 2003.

ADDRESSES: You can download this correction at the following Internet address: http://www.publicdebt.treas.gov.

FOR FURTHER INFORMATION CONTACT:

Susan Klimas, Attorney-Adviser, Office of the Chief Counsel, Bureau of the Public Debt, at (304) 480-8692 or (susan.klimas@bpd.treas.gov).

Dean Adams, Assistant Chief Counsel, Office of the Chief Counsel, Bureau of the Public Debt, at (304) 480-8692 or (dean.adams@bpd.treas.gov).

SUPPLEMENTARY INFORMATION: We published in the January 17, 2003 Federal Register a final rule that increased the period of time that owners of United States Series EE and I Savings Bonds must hold their bonds before the bonds are eligible for redemption. This mandatory holding period increased from 6 months to 12 months for bonds purchased on or after February 1, 2003. Although the rule correctly references the February 1, 2003 date for bonds affected by the increased holding period, the rule stated that bonds issued December 1, 2002, or earlier, are unaffected by the change. (The issue date of a Series EE or I bond is the first day of the month in which a qualified issuing agent or organization receives or accumulates the full purchase price of the bond.) The rule should have stated that bonds issued January 1, 2003, or earlier, continue to retain the 6 months holding period. The misstatement could cause confusion for bond owners who purchased bonds during December 2002. This document corrects that misstatement.

In the FR Document 03-1114 published on January 17, 2003, (Vol. 68, No. 12, page 2666-2667, make the following corrections: change “December 1, 2002” to “January 1, 2003,” where it appears in §§ 321.8(a)(1), 321.9(a)(1), Appendix to Part 321, section (8)(a), §§ 351.2(d), 352.7(a), 353.35(b), 359.6(a), and 360.35(b).

Dated: February 12, 2003.
Van Zeck,
Commissioner, Bureau of the Public Debt.

[FR Doc. 03-3820 Filed 2-13-03; 8:45 am]

BILLING CODE 4810-39-M